DEPARTMENT OF THE INTERIOR

National Park Service

[NPS-WASO-NRNHL-DTS#-38032; PPWOCRADI0, PCU00RP14.R50000]

National Register of Historic Places; Notification of Pending Nominations and Related Actions

AGENCY: National Park Service, Interior.

ACTION: Notice.

SUMMARY: The National Park Service is soliciting electronic comments on the significance of properties nominated before May 18, 2024, for listing or related actions in the National Register of Historic Places.

DATES: Comments should be submitted electronically by June 20, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 18, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Montgomery County

First Baptist Church, (The Civil Rights Movement in Montgomery, Alabama, 1850-1984 MPS), 347 N Ripley Street, Montgomery, MP100010460

Centennial Hill Historic District, (The Civil Rights Movement in Montgomery, Alabama, 1850-1984 MPS), Roughly bound by Highland and Adams Avenue to the north, Hall Street to the east, I-85 to the south, and South Bainbridge Street to the west, Montgomery, MP100010461

ARIZONA

Maricopa County

Snyder, Dr. Bertram L., House, 8122 N 10th Avenue, Phoenix, SG100010454

DISTRICT OF COLUMBIA

District of Columbia

Charles Dickson Site, (African American Rural Home Sites in Washington, DC, 1865-1900 MPS), Address Restricted, Washington vicinity, MP100010450

Jane Dickson Site, (African American Rural Home Sites in Washington, DC, 1865-1900 MPS), Address Restricted, Washington vicinity, MP100010451

Sarah Whitby Site, (African American Rural Home Sites in Washington, DC, 1865-1900 MPS), Address Restricted, Washington vicinity, MP100010452

MAINE

Franklin County

Webb River Grange, 112 Main Street, Carthage, SG100010455

Lincoln County

Village School at Puddle Dock, 275 Head Tide Road/ME 194, Alna, SG100010456

Oxford County

Gilead Railroad Station, 8 Depot Street, Gilead, SG100010457

NEBRASKA

Antelope County

Neligh Carnegie Library, (Carnegie Libraries in Nebraska MPS), 510 M St., Neligh, MP100010466

Douglas County

Omaha Fire Department No. 5, 4702 South 25th Street, Omaha, SG100010465

Lancaster County

First United Methodist Church Lincoln, 2720 N 50th St., Lincoln, SG100010464

NORTH DAKOTA

Burleigh County

Highland Acres Historic District (Boundary Increase), Roughly bounded by Shafer St., Edwards Ave., the axis of Williams St. and S Highland Acres Rd. plus either side of Arthur Dr., Bismarck, BC100010467

OHIO

Summit County

Akron Temple Israel Synagogue, 133 Merriman Road, Akron, SG100010462

WISCONSIN

Sheboygan County

MOJAVE Shipwreck (Barkentine), (Great Lakes Shipwreck Sites of Wisconsin MPS), Address Restricted, Town of Mosel vicinity, MP10001046

An additional documentation has been received for the following resource(s):

ALABAMA

Cleburne County

Morgan, John, House (Additional Documentation), 321 Ross St., Heflin, AD93000762

NEBRASKA

Douglas County

Omaha Star, The (Additional Documentation), 2216 N 24th St., Omaha, AD07001322

SOUTH CAROLINA

Charleston County

McClellanville Historic District (Additional Documentation), Pinckney, Lofton, Charlotte, Church, Water, Oak, Venning, Legare, Morrison, and Scotia Sts., McClellanville, AD82003845

TENNESSEE

Hamilton County

Tivoli Theater (Additional Documentation), (Hunt, Reuben H., Buildings in Hamilton County TR (AD)), 709 Broad St., Chattanooga, AD73001779

Authority: Section 60.13 of 36 CFR part 60.

Sherry A. Frear,
Chief, National Register of Historic Places/National Historic Landmarks Program.

[FR Doc. 2024-12227 Filed 6-3-24; 8:45 am]

BILLING CODE 4312-52-P